DEPARTMENT OF TRANSPORTATION

Federal Aviation Administration

14 CFR Part 39

[Docket No. 2001-NM-302-AD]

RIN 2120-AA64

Airworthiness Directives; Airbus Model A300 B2 and B4 Series Airplanes; Model A300 B4-600, A300 B4-600R, and A300 F4-600R Series Airplanes (Collectively Called A300-600); Model A310 Series Airplanes; Model A319, A320, and A321 Series Airplanes; Model A330-301, -321, -322, -341, and -342 Series Airplanes; and Model A340 Series Airplanes

AGENCY: Federal Aviation Administration, DOT.

ACTION: Notice of proposed rulemaking (NPRM).

SUMMARY: This document proposes the adoption of a new airworthiness directive (AD) that is applicable to certain Airbus Model A300 B2 and B4 series airplanes; Model A300 B4-600, A300 B4-600R, and A300 F4-600R series airplanes (collectively called A300-600); Model A310 series airplanes; Model A319, A320, and A321 series airplanes; Model A330-301, -321, -322, -341, and -342 series airplanes; and Model A340 series airplanes. This proposal would require, among other actions, replacement of certain pitot probes with certain new pitot probes. This action is necessary to prevent loss or fluctuation of indicated airspeed, which could result in inadvertent excursions outside the normal flight envelope. This action is intended to address the identified unsafe condition.

DATES: Comments must be received by January 3, 2003.

ADDRESSES: Submit comments in triplicate to the Federal Aviation Administration (FAA), Transport Airplane Directorate, ANM-114, Attention: Rules Docket No. 2001-NM-302-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-302-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-302-AD.” The postcard will be date stamped and returned to the commenter.

Availability of NPRMs

Any person may obtain a copy of this NPRM by submitting a request to the FAA, Transport Airplane Directorate, ANM-114, Attention: Rules Docket No. 2001-NM-302-AD, 1601 Lind Avenue, SW., Renton, Washington 98055-4056.

Discussion

The Direction Générale de l'Aviation Civile (DGAC), which is the airworthiness authority for France, notified the FAA that an unsafe condition may exist on certain Airbus Model A300 B2 and B4 series airplanes; Model A300 B4-600, A300 B4-600R, and A300 F4-600R series airplanes (collectively called A300-600); Model A310 series airplanes; Model A319, A320, and A321 series airplanes; Model A330-301, -321, -322, -341, and -342 series airplanes; and Model A340 series airplanes. The DGAC advises that operators have reported several cases of loss or fluctuation of indicated airspeed when flying through heavy precipitation or freezing weather conditions. The probable cause has been attributed to the presence of ice crystals and/or water exceeding the weather limits for which the pitot probes are currently certified. Loss or fluctuation of indicated airspeed, if not corrected, could result in inadvertent excursions outside the normal flight envelope.

Explanation of Relevant Service Information

Airbus has issued Service Bulletin A300-34-0166, dated March 30, 2001 (for Model A300 B2 and B4 series airplanes); Service Bulletin A300-34-6116, Revision 02, dated May 25, 2000 (for Model A300 B4-600, A300 B4-600R, or A300 F4-600R series airplanes); and Service Bulletin A310-34-2137, Revision 02, dated May 25, 2000 (for Model A310 series airplanes). These service bulletins describe procedures for replacement of the Sextant pitot probes from the forward fuselage panel between FR6 and FR7 with new BF Goodrich pitot probes (including O-rings, gaskets, and nuts). In lieu of this replacement, Airbus has issued Service Bulletin A300-34-6141, dated December 3, 2001 (for Model A300 B4-600R series airplanes); and Airbus Service Bulletin A310-34-2154, Revision 01, dated April 19, 2000 (for Model A310 series airplanes). These service bulletins describe procedures for replacement of the Sextant pitot probes from the forward fuselage panel between FR6 and FR7 with new, improved Sextant pitot probes (including O-rings, gaskets, and nuts).

Airbus also has issued Service Bulletin A300-34-069, Revision 05, dated April 8, 1982, as revised by A300 Service Bulletin Change Notice 5A, dated February 16, 1987 (for Model A300 B2 and A300 B4 series airplanes), which describes procedures for replacement of the Captain's, First Officer's, and standby Badin Crouzet pitot probes in zones 121 and 122 between STA881/FR6 and STA904FR7 with new Badin Crouzet pitot probes. The replacement includes replacing the O-rings, gaskets, and nuts; and modifying the electrical wiring and the equipment of the electrical wiring.

Airbus also has issued Service Bulletin A300-21-053, Revision 2, dated January 3, 1980 (for Model A300 B2 and A300 B4 series airplanes), which describes procedures for modifying the relay box of the automatic ground depressurization system. The modification includes installing blanking plates, a relay assembly, and placards; incorporating and attaching to existing bundles a new bundle with cable ties; and plugging unused holes of a certain relay.

Airbus also has issued Service Bulletin A300-32-052, dated November 15, 1976 (for Model A300 B2 and B4 series aiplanes), which describes procedures for cleaning, restoring paint coats, and applying Mystik tape 7355 to shock strut (barrel) of the main landing gear; and replacing the lower arm link with a new, reidentified lower arm lock link.

Airbus also has issued Service Bulletin A300-22-031, dated June 25, 1979 (for Model A300 B2 and A300 B4 series airplanes), which describes procedures for modification of the electronic racks, electrical wiring, and cable routing. The modification includes drilling and deburring structure, and plugging unused holes in connectors.

Airbus also has issued Service Bulletin A320-34-1127, dated April 24, 1997 (for Model A319, A320, and A321 series airplanes), which describes procedures for replacement of Thales (previously Sextant) pitot probes in zones 125, 9DA2, and 122 with new Thales pitot probes.

Airbus also has issued Service Bulletin A330-34-3038, dated November 19, 1996 (for Model A330-301, -321, -322, -341, and -342 series airplanes), which describes procedures for replacement of the Rosemount pitot probes in zones 121 and 122 with new BF Goodrich pitot probes. In lieu of this replacement for certain airplanes, Airbus also has issued Service Bulletin A330-34-3071, dated December 11, 1998 (for Model A330-301 series airplanes), which describes procedures for replacement of the Rosemount pitot probes in zones 121 and 122 with new Sextant pitot probes.

In addition, Airbus has issued Service Bulletin A340-34-4042, dated November 19, 1996 (for Model A340-211, -212, -213, -311, -312, and -313 series airplanes), which describes procedures for replacement of the Rosemount pitot probes in zones 121 and 122 with new BF Goodrich pitot probes. In lieu of this replacement for certain airplanes, Airbus also has issued Service Bulletin A340-34-4079, dated December 11, 1998 (for Model A340-211, -212, and -311 series airplanes), which describes procedures for replacement of the Rosemount pitot probes in zones 121 and 122 with new Sextant pitot probes.

Accomplishment of the actions specified in the service bulletins is intended to adequately address the identified unsafe condition. The DGAC classified these service bulletins as mandatory and issued French airworthiness directives 2001-353(B), dated August 8, 2001; 2001-354(B), dated August 8, 2001; 2001-362(B), dated August 8, 2001; and 2001-265(B) R1, dated December 12, 2001; in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable service bulletins described previously.

Cost Impact

The FAA estimates that 559 airplanes of U.S. registry would be affected by this proposed AD. The “Table—Cost Figures” shows the estimated cost impact for certain airplanes affected by this AD. The average labor rate is $60 per work hour. “Table—Cost Figures” is as follows:

Table—Cost Figures
Model | U.S.-registered airplanes | Work hours (estimated) | Parts cost (estimated) | Total cost (estimated)
A300 B2 and A300 B4 | 24 | (*) | Between $120 to $56,669 (depending on airplane configuration) | Between $300, and $78,329, per airplane (depending on airplane configuration).
A300 B4-600, A300 B4-600R, and A300 F4-600R (collectively called A300-600) | 83 | 3 | $5,700 | $488,040, or $5,880 per airplane.
A310 | 46 | 3 | $5,700 or $5,856 (depending on airplane configuration) | $270,480 or $277,656; or $5,880 or $6,036 per airplane (depending on airplane configuration).
A319, A320, and A321 | 397 | 3 | $6,000 | $2,453,460, or $6,180 per airplane.
A330-301, -321, -322, -341, and -342 | 9 | 3 | $6,000 or $11,100 (depending on airplane configuration) | $55,620 or 101,520; or $6,180 or $11,280 per airplane (depending on airplane configuration).
* Between 3 and 631.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340-211, -212, -213, -311, -312, and -313 series airplanes on the U.S. Register. However, should an affected airplane be imported and placed on the U.S. Register in the future, it would require approximately 3 work hours to accomplish the required actions, at an average labor rate of $60 per work hour. The cost of required parts would be $6,000 or $11,100 (depending on airplane configuration). Based on these figures, the cost impact of this AD would be $6,180 or $11,280 per airplane (depending on airplane configuration).

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-302-AD.

Applicability: The series airplanes, certificated in any category, listed in Table—Applicability:

Table—Applicability
Model | Excluding airplanes modified per— | Excluding airplanes equipped with—
A300 B2 and A300 B4 | Airbus Modification No. 12236 in service (reference Airbus Service Bulletin A300-34-0166, dated March 30, 2001, in service) | [Reserved].
A300 B4-600, A300 B4-600R, and A300 F4-600R (collectively called A300-600) | Airbus Modification No. 11858 in production (reference Airbus Service Bulletin A300-34-6116, dated June 19, 1998; Revision 01, dated August 7, 1998; or Revision 02, dated May 25, 2000; in service); or Airbus Modification No. 12223 in service (reference Airbus Service Bulletin A300-34-6141, dated December 3, 2001, in service) | [Reserved].
A310 | Airbus Modification No. 11858 in production (reference Airbus A310-34-2137, dated June 19, 1998; Revision 01, dated August 7, 1998; or Revision 02, dated May 25, 2000; in service); or Airbus Modification 12223 in service (reference Airbus A310-32-2154, dated January 13, 2000; or Revision 01, dated April 19, 2000; in service) | [Reserved].
A319, A320, and A321 | Airbus Modification 25998 in production (reference Airbus Service Bulletin A320-34-1127, dated April 24, 1997, in service) | BF Goodrich (previously New Rosemount) pitot probes part number 0851HL per Airbus Modification No. 25578 (reference Airbus Service Bulletin A320-34-1170, dated April 12, 1979; Revision 01, dated March 14, 1980; Revision 02, dated April 10, 1980; Revision 03, dated March 23, 1981; Revision 04, dated October 1, 1981; or Revision 05, dated September 11, 2000.)
A330-301, -321, -322, -341, and -342 | Airbus Modification No. 44836 in production (reference Airbus Service Bulletin A330-34-3038, dated November 19, 1996, in service); or Airbus Modification No. 45638 in production (reference Airbus Service Bulletin A330-34-3071, dated December 11, 1998, in service) | [Reserved].
A340-211, -212, -213, -311, -312, and -313 | Airbus Modification 44836 in production (reference Airbus Service Bulletin A340-34-4042, dated November 19, 1996, in service); or Airbus Modification 45638 in production (reference Airbus Service Bulletin A340-34-4079, dated December 11, 1998; Revision 01, dated May 27, 1999; or Revision 02, dated October 6, 1999; in service) | [Reserved].

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (i) of this AD. The request should include an assessment of the effect of the modification, alteration, or repair on the unsafe condition addressed by this AD; and, if the unsafe condition has not been eliminated, the request should include specific proposed actions to address it.

Compliance: Required as indicated, unless accomplished previously.

To prevent loss or fluctuation of indicated airspeed, which could result in inadvertent excursions outside the normal flight envelope, accomplish the following:

For Model A300 B2 and A300 B4 Series Airplanes; Model A300 B4-600, A300 B4-600R, and A300 F4-600R (Collectively Called A300-600) Series Airplanes; and Model A310 Series Airplanes: Replacement of Pitot Probes With New Pitot Probes

(a) Within 30 months after the effective date of this AD, do the action specified in paragraph (a)(1) or (a)(2) of this AD, as applicable.

(1) For Model A300 B2 and A300 B4 series airplanes; Model A300 B4-600, A300 B4-600R, and A300 F4-600R (collectively called A300-600) series airplanes; and Model A310 series airplanes: Replace the Sextant pitot probes from the forward fuselage panel between FR6 and FR7 with new BF Goodrich pitot probes (including O-rings, gaskets, and nuts), per Airbus Service Bulletin A300-34-0166, dated March 30, 2001 (for Model A300 B2 and B4 series airplanes); Airbus Service Bulletin A300-34-6116, Revision 02, dated May 25, 2000 (for Model A300 B4-600, A300 B4-600R, and A300 F4-600R series airplanes); or Airbus Service Bulletin A310-34-2137, Revision 02, dated May 25, 2000 (for Model A310 series airplanes); as applicable.

(2) For Model A300 B4-600R, A310-203, and A310-304 series airplanes: Replace the Sextant pitot probes from the forward fuselage panel between FR6 and FR7 with Sextant pitot probes (including O-rings, gaskets, and nuts), per Airbus Service Bulletin A300-34-6141, dated December 3, 2001 (for Model A300 B4-600R series airplanes); or Airbus Service Bulletin A310-34-2154, Revision 01, dated April 19, 2000 (for Model A310 series airplanes); as applicable.

For Model A300 B2 and A300 B4 Series Airplanes: Before or Concurrent Requirements

(b) For Model A300 B2 and A300 B4 series airplanes: Before or concurrently with the requirements of paragraphs (a)(1) of this AD, as applicable, replace the Captain's, First Officer's, and standby Badin Crouzet pitot probes in zones 121 and 122 between STA881/FR6 and STA904FR7 with new Badin Crouzet pitot probes (including replacement of O-rings, gaskets, and nuts; and modification of electrical wiring and equipment of electrical wiring); per Airbus Service Bulletin A300-34-069, Revision 05, dated April 8, 1982, as revised by A300 Service Bulletin Change Notice 5A, dated February 16, 1987.

(c) For Model A300 B2 and A300 B4 series airplanes, manufacturer's serial numbers 002, 004 through 028 inclusive, 030 through 051 inclusive: Before or concurrently with the requirements of paragraph (b) of this AD, modify the relay box of the automatic ground depression systems by doing all the actions specified in the Accomplishment Instructions of Airbus Service Bulletin A300-21-053, Revision 2, dated January 3, 1980; per the service bulletin.

(d) For Model A300 B2 and A300 B4 series airplanes, manufacturer's serial numbers 002, 005 through 007 inclusive, 009 through 014 inclusive, 016, and 017: Before or concurrently with the requirements of paragraph (c) of this AD, do the actions specified in paragraphs (d)(1) and (d)(2) of this AD per Airbus Service Bulletin A300-32-052, dated November 15, 1976.

(1) Clean, restore paint coats, and apply mystik tape 7355 to shock strut (barrel) of the main landing gear.

(2) Replace the lower arm link with a new, reidentified lower arm lock link.

(e) For Model A300 B2 and A300 B4 series airplanes, manufacturer's serial numbers 005 through 007 inclusive, 009 through 012 inclusive: Before or concurrently with the requirements of paragraph (b) of this AD, modify the electronic racks, electrical wiring, and cable routing by accomplishing all the actions specified in the Accomplishment Instructions of Airbus Service Bulletin A300-22-031, dated June 25, 1979, per the service bulletin.

For Model A319, A320, and A321 Series Airplanes: Replacement of Thales Pitot Probes

(f) For Model A319, A320, and A321 series airplanes: Within 24 months after the effective date of this AD: Replace the Thales (previously Sextant) pitot probes in zones 125, 9DA2, and 122 with new Thales pitot probes, per Airbus Service Bulletin A320-34-1127, dated April 24, 1997.

For Model A330-301, -321, -322, -341, and -342 Series Airplanes: Replacement of Rosemount Pitot Probes

(g) Within 30 months after the effective date of this AD, do the action specified in paragraph (g)(1) or (g)(2) of this AD, as applicable.

(1) For Model A330-301, -321, -322, -341, and -342 series airplanes: Replace the Rosemount pitot probes in zones 121 and 122 with new BF Goodrich pitot probes, per Airbus Service Bulletin A330-34-3038, dated November 19, 1996.

(2) For Model A330-301 series airplanes: Replace the Rosemount pitot probes in zones 121 and 122 with new Sextant pitot probes, per Airbus Service Bulletin A330-34-3071, dated December 11, 1998.

For Model A340-211, -212, -213, -311, -312, and -313 Series Airplanes: Replace the Rosemount Pitot Probes

(h) Within 30 months after the effective date of this AD, do the actions specified in paragraph (h)(1) or (h)(2) of this AD, as applicable.

(1) For Model A340-211, -212, -213, -311, -312, and -313 series airplanes: Replace the Rosemount pitot probes in zones 121 and 122 with new BF Goodrich pitot probes, per Airbus Service Bulletin A340-34-4042, dated November 19, 1996.

(2) For Model A340-211, -212, and -311 series airplanes: Replace the Rosemount pitot probes in zones 121 and 122 with new Sextant pitot probes, per Airbus Service Bulletin A340-34-4079, dated December 11, 1998. This replacement must be done before or concurrently with the requirements of paragraph (h)(1) of this AD.

Alternative Methods of Compliance

(i) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(j) Special flight permits may be issued in accordance with sections 21.197 and 21.199 of the Federal Aviation Regulations (14 CFR 21.197 and 21.199) to operate the airplane to a location where the requirements of this AD can be accomplished.

Note 3: The subject of this AD is addressed in French airworthiness directives 2001-353(B), dated August 8, 2001; 2001-354(B), dated August 8, 2001; 2001-362(B), dated August 8, 2001; and 2001-265(B) R1, dated December 12, 2001.

Issued in Renton, Washington, on November 25, 2002.
Vi L. Lipski,
Manager, Transport Airplane Directorate, Aircraft Certification Service.

[FR Doc. 02-30654 Filed 12-3-02; 8:45 am]

BILLING CODE 4910-13-P